DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

EFFECTIVE DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, floodplains, reporting and recordkeeping requirements.

Accordingly, 44 CFR Part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief Executive Officer of community | Effective date of modification | Community number
Florida: Duval (FEMA Docket No. D-7549) | City of Jacksonville | November 21, 2003, November 28, 2003, The Florida Times-Union | The Honorable John Peyton, Mayor of the City of Jacksonville, 4th Floor, City Hall at St. James, 117 West Duval Street, Suite 400, Jacksonville, Florida 32202 | November 10, 2003 | 120077 E
Florida: Walton (FEMA Docket No. D-7553) | Unincorporated Areas | January 1, 2004, January 8, 2004, Defuniak Springs Herald-Breeze | Mr. Larry Jones, Chairman of the Walton County Board of Commissioners, P.O. Drawer 1355, Defuniak Springs, Florida 32435 | April 8, 2004 | 120317 F
Georgia: Gwinnett (FEMA Docket No. D-7551) | Unincorporated Areas | January 8, 2004, January 15, 2004, Gwinnett Daily Post | Mr. F. Wayne Hill, Chairman of the Gwinnett County Board of Commissioners, Justice and Administration Center, 75 Langley Drive, Lawrenceville, Georgia 30045 | December 29, 2003 | 130322 C
Georgia: Bibb and Jones (FEMA Docket No. D-7551) | City of Macon and Bibb County | December 31, 2003, January 7, 2004, The Macon Telegraph | The Honorable C. Jack Ellis, Mayor of the City of Macon, 700 Poplar Street, Macon, Georgia 31201 | April 7, 2004 | 130011 E
Georgia: Oconee (FEMA Docket No. D-7549) | City of Watkinsville | December 4, 2003, December 11, 2003, Oconee Enterprise | The Honorable W. B. Hardigree, Mayor of the City of Watkinsville, P.O. Box 27, Watkinsville, Georgia 31827 | May 20, 2004 | 130369 A
Massachusetts: Middlesex (FEMA Docket No. D-7551) | Town of Andover | December 9, 2003, December 16, 2003, The Eagle-Tribune | Mr. Reginald S. Stapczynski, Manager of the Town of Andover, Andover Town Office, 36 Bartlet Street, Andover, Massachusetts 01810 | March 16, 2004 | 250076 B
Massachusetts: Middlesex (FEMA Docket No. D-7551) | Town of Wilmington | December 9, 2003, December 16, 2003, The Sun | Mr. Michael Caira, Manager of the Town of Wilmington, Wilmington Town Hall, 121 Glen Road, Wilmington, Massachusetts 01887 | March 16, 2004 | 250227 C&D
Mississippi: DeSoto (FEMA Docket No. D-7553) | City of Southaven | January 1, 2004, January 8, 2004, The DeSoto County Tribune | The Honorable Charles G. Davis, Mayor of the City of Southaven, 8710 Northwest Drive, Southaven, Mississippi 38671 | April 8, 2004 | 280331 F
New Jersey: Union (FEMA Docket No. D-7549) | Borough of Roselle | November 14, 2003, November 21, 2003, Home News Tribune | The Honorable Joseph E. Croteau, Mayor of the Borough of Roselle, 210 Chestnut Street, Roselle, New Jersey 07203 | February 20, 2004 | 340472 A
North Carolina: Gaston (FEMA Docket No. D-7551) | City of Belmont | December 8, 2003, December 15, 2003, The Gaston Gazette | The Honorable Billy W. Joye, Jr., Mayor of the City of Belmont, P.O. Box 431, Belmont, North Carolina 28012 | December 1, 2003 | 370320 E
North Carolina: Gaston (FEMA Docket No. D-7551) | Unincorporated Areas | December 8, 2003, December 15, 2003, The Gaston Gazette | Mr. Jan Winters, Gaston County Manager, P.O. Box 1578, Gastonia, North Carolina 28053 | December 1, 2003 | 370099 E
North Carolina: Gaston (FEMA Docket No. D-7551) | City of Mount Holly | December 8, 2003, December 15, 2003, The Gaston Gazette | The Honorable Robert Black, Mayor of the City of Mount Holly, P.O. Box 406, Mount Holly, North Carolina 28120 | December 1, 2003 | 370102 E
Pennsylvania: Lebanon (FEMA Docket No. D-7551) | City of Lebanon | January 2, 2004, January 9, 2004, Lebanon Daily News | The Honorable Robert A. Anspach, Mayor of the City of Lebanon, 400 South Eight Street, Lebanon, Pennsylvania 17042 | April 9, 2004 | 420573 B
Pennsylvania: Lebanon (FEMA Docket No. D-7551) | Township of South Lebanon | January 2, 2004, January 9, 2004, Lebanon Daily News | Mr. Curtis Kulp, Township of South Lebanon Manager, 1800 South Fifth Avenue, Lebanon, Pennsylvania 17042 | April 9, 2004 | 420581 C
Pennsylvania: Montgomery (FEMA Docket No. D-7551) | Township of Springfield | December 17, 2003, December 24, 2003, Ambler Gazette | Mr. Donald Berger, Township of Springfield Manager, 1510 Papermill Road, Wyndmoor, Pennsylvania 19118 | December 10, 2003 | 425388 E
Pennsylvania: Montgomery (FEMA Docket No. D-7551) | Township of Upper Dublin | December 17, 2003, December 24, 2003, Ambler Gazette | Mr. Paul Leonard, Township of Upper Dublin Manager, 801 Loch Alsh Avenue, Fort Washington, Pennsylvania 19304 | December 10, 2003 | 420708 E
Pennsylvania: Montgomery (FEMA Docket No. D-7551) | Township of Whitemarsh | December 17, 2003, December 24, 2003, Times Herald | Mr. Lawrence J. Gregan, Township of Whitemarsh Manager, 616 Germantown Pike, Lafayette Hill, Pennsylvania 19444-1821 | December 10, 2003 | 420712 E
South Carolina: Horry (FEMA Docket No. D-7551) | Unincorporated Areas | December 29, 2003, January 5, 2004, The Sun News | Mr. Danny Knight, Horry County Administrator, P.O. Box 1236, Conway, South Carolina 29528 | December 22, 2003 | 450104 H
Tennessee: Rutherford (FEMA Docket No. D-7551) | City of LaVergne | January 5, 2004, January 12, 2004, The Daily News Journal | The Honorable Mike Webb, Mayor of the City of LaVergne, 5093 Murfreesboro Road, LaVergne, Tennessee 37086 | December 29, 2003 | 470167 E
Virginia: Fauquier (FEMA Docket No. D-7551) | Unincorporated Areas | January 8, 2004, January 15, 2004, Fauquier Citizen | Mr. G. Robert Lee, Fauquier County Administrator, 40 Culpeper Street, Warrenton, Virginia 20186 | December 23, 2003 | 510055 A
Wisconsin: Dane (FEMA Docket No. D-7551) | Unincorporated Areas | November 20, 2003, November 27, 2003, Wisconsin State Journal | Ms. Kathleen Falk, Dane County Executive, City-County Building, Room 421, 210 Martin Luther King, Jr., Boulevard, Madison, Wisconsin 53709 | February 26, 2004 | 550077 F
Wisconsin: Dane (FEMA Docket No. D-7551) | Village of Mazomanie | November 20, 2003, November 27, 2003, News-Sickle-Arrow | Mr. Jeff Wirth, Mazomanie Village President, 133 Crescent Street, Mazomanie, Wisconsin 53560 | February 26, 2004 | 550085 F

(Catalog of Federal Domestic Assistance No. 83.100, “Flood Insurance.”)
Dated: August 10, 2004.
David I. Maurstad,
Acting Director, Mitigation Division, Emergency Preparedness and Response Directorate.

[FR Doc. 04-19008 Filed 8-18-04; 8:45 am]

BILLING CODE 9110-12-P